DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before November 12, 2024.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on October 1, 2024.
Donald P. Burger,
Chief, General Approvals and Permits Branch.

Special Permits Data
Application No. | Applicant | Regulation(s) affected | Nature of the special permits thereof
21856-N | Lynden Air Cargo, LLC | 172.101(j) | To authorize the transportation in commerce of certain cryogenic liquids by air in quantities that exceed the limits specified in Column 9B of the 172.101 Hazardous Materials Table. (mode 4)
21857-N | Trinity Industries, Inc | 172.203(a), 173.319, 179.401-1 | To authorize the manufacture, mark, sale, and use of DOT specification 113A90W tank cars for the transportation of certain non-flammable cryogenic liquids. (mode 2)
21859-N | Plastipak Packaging, Inc | 178.33b-5(a), 178.33b-6(a) | To authorize the manufacture, mark, sale, and use of non-DOT specification plastic non-refillable inside containers conforming with all regulations applicable to a DOT specification 2S plastic inside container, except that recycled plastic may be used, for the transportation in commerce of the hazardous materials in paragraph 6. (modes 1, 2, 3, 4, 5)
21863-N | Munro & Associates, Inc | 173.185(f) | To authorize the transportation in commerce of a damaged lithium ion battery. (mode 1)
21864-N | Arrowhead Industrial Services (U.S.A.), Inc | 172.203(a), 172.301(c), 173.301(a), 173.301(f)(1) | To authorize the transportation in commerce of certain DOT specification cylinders, UN/ISO pressure vessels, or pressure vessels constructed to Internationally recognized standards as listed in Table 1 of Arrowhead Transportation SOP, AISI-TransportSP-000 containing Division 2.1 or 2.2 materials for the purpose of performing certain qualification tests that cannot be performed at their current location. (mode 1)
21865-N | Chemstream, Inc | 172.102(c)(3) | To authorize the use of MC 312 or DOT 412 cargo tank fitted with venting and a pressure relief device for the transportation in commerce of hydrogen peroxide. (mode 1)
21866-N | Electronic Recyclers International Inc | 172.700(a), 172.400, 172.200, 172.300, 172.102(c)(2), 173.159a(c)(2), 173.185(c)(1)(iii), 173.185(c)(1)(iv), 173.185(c)(1)(v), 173.185(c)(3), 173.185(f) | To authorize the transportation in commerce of DDR and end of life batteries and to allow various chemistries in the same alternative packaging. (mode 1)
21867-N | Oxyde Chemicals, Inc | 171.22(c), 173.241, 173.241(c) | To authorize the use of non-DOT specification bulk packaging (Flexitank) fitted inside an intermodal container for the transportation of specified materials by motor vehicle, specifically to deliver the container to the port of lading to board a container ship for export. (modes 1, 3)
21869-N | Van Troxel International Inc | Part 172 Subparts C, D, E, and F, 173.302a(a)(1), 173.304a(a)(1) | To authorize the transportation in commerce of non-compliant inner containers that have not been appropriately marked. (mode 1)
21870-N | Air Transport International, Inc | 172.101(j), 173.27(b) | To authorize the transportation in commerce of cesium by passenger-carrying aircraft which is forbidden for transport aboard passenger-carrying aircraft per Column 9A of the 172.101 HMR. (mode 5)

[FR Doc. 2024-23407 Filed 10-9-24; 8:45 am]

BILLING CODE P